SOCIAL SECURITY ADMINISTRATION

[Docket No. SSA-2014-0055]

Charging Standard Administrative Fees for Nonprogram-Related Information Requests for Detailed Social Security Earnings

AGENCY: Social Security Administration.

ACTION: Notice of updated schedule of standardized administrative fees.

SUMMARY: On November 8, 2013,¹ we announced in the Federal Register a new administrative fee we charge to the public for detailed yearly Social Security earnings information. We charge administrative fees to recover our full costs when we provide information and related services for nonprogram purposes. We are announcing an update to the previously published fee for detailed yearly Social Security earning information.

¹ 78 FR 67210, November 8, 2013.

The updated standard fee is part of our continuing effort to standardize fees for nonprogram information requests. We reserve the right to review and update the published standard fees as necessary, but no less than every two years, to ensure the agency recovers the full cost of providing nonprogram-related services. Standard fees provide consistency and ensure we recover the full cost of supplying information when we receive a request for a purpose not directly related to the administration of a program under the Social Security Act (Act).

SUPPLEMENTARY INFORMATION: Section 1106 of the Act and the Privacy Act ² authorize the Commissioner of Social Security to promulgate regulations regarding agency records and information and to charge fees for providing information and related services. Our regulations and operating instructions identify when we will charge fees for information.³ Whenever we determine a request for information is for any purpose not directly related to the administration of the Social Security programs, we require the requester to pay the full cost of providing the information.

² 42 U.S.C. 1306 and 5 U.S.C. 552a, respectively.

³ See 20 CFR 402.170, 402.175; Program Operations Manual System (POMS) GN 03311.005.

New Information: Based on the most recent cost analysis, we determined the new standard fee for detailed yearly Social Security earnings information is $136 for each request. We will certify the detailed earnings information for an additional $56. Note: Certification is usually not necessary. We based this updated standard fee on our most recent cost calculations for supplying this information and the standard fee methodology previously published in the Federal Register. A requestor can obtain certified and non-certified detailed yearly Social Security earnings information by completing the Form SSA-7050 (Request for Social Security Earnings Information). A requestor can continue to obtain non-certified, yearly earnings totals (Form SSA-7004, Request for a Social Security Statement) through our free online service mySocialSecurity, http://socialsecurity.gov/myaccount/, a personal online account for Social Security information and services. Online Social Security Statements display uncertified yearly earnings, free of charge, and do not show any employer information. Certified yearly Social Security earnings totals cost $56, available by completing Form SSA-7050.

We will continue to evaluate all standard fees at least every two years to ensure we capture the full costs associated with providing information for nonprogram-related purposes. We will require nonrefundable advance payment of the standard fee by check, money order, or credit card. We will not accept cash. If we revise any of the standard fees, we will publish another notice in the Federal Register. For other nonprogram-related requests for information not addressed here or within the current schedule of standardized administrative fees, we will continue to charge fees calculated on a case-by-case basis to recover our full cost of supplying the information.

Additional Information

Additional information is available on our Web site at http://socialsecurity.gov/pgm/business.htm or by written request to: Social Security Administration, Office of Public Inquiries, Windsor Park Building, 6401 Security Boulevard, Baltimore, MD 21235.

DATES: The changes described above are effective for requests we receive on or after November 15, 2014.

FOR FURTHER INFORMATION CONTACT: Kristina Poist, Social Security Administration, Office of Finance, 6401 Security Boulevard, Baltimore, MD 21235-6401, (410) 597-1977. For information on eligibility or filing for benefits, visit our Internet site, Social Security Online, at http://socialsecurity.gov, or call our national toll-free number, 1-800-772-1213 or TTY 1-800-325-0778.

Dated: November 3, 2014.
Carolyn W. Colvin,
Acting Commissioner of Social Security.

[FR Doc. 2014-26484 Filed 11-6-14; 8:45 am]

BILLING CODE 4191-02-P